INTERNATIONAL TRADE COMMISSION

[USITC SE-17-058]

Government in the Sunshine Act Meeting Notice

Agency Holding the Meeting: United States International Trade Commission.

Time and Date: December 14, 2017 at 11:00 a.m.

Place: Room 101, 500 E Street SW., Washington, DC 20436, Telephone: (202) 205-2000.

Status: Open to the public.

Matters to be Considered:

1. Agendas for future meetings: None.

2. Minutes.

3. Ratification List.

4. Vote in Inv. Nos. 731-TA-865-867 (Third Review)(Stainless Steel Butt-Weld Pipe Fittings from Italy, Malaysia, and the Philippines). The Commission is currently scheduled to complete and file its determinations and views of the Commission by January 8, 2018.

5. Outstanding action jackets: None.

In accordance with Commission policy, subject matter listed above, not disposed of at the scheduled meeting, may be carried over to the agenda of the following meeting.

By order of the Commission.
Issued: December 4, 2017.
William R. Bishop,
Supervisory Hearings and Information Officer.

[FR Doc. 2017-26460 Filed 12-5-17; 11:15 am]

BILLING CODE 7020-02-P